DEPARTMENT OF THE INTERIOR

Minerals Management Service

Correction of the Notice of Availability of the Proposed Notice of Sale for Outer Continental Shelf (OCS) Oil and Gas Lease Sale 196 in the Western Gulf of Mexico (GOM)

AGENCY: Minerals Management Service, Interior.

ACTION: Correction of the Notice of Availability of the Proposed Notice of Sale for Proposed Sale 196.

SUMMARY: On March 28, 2005, pursuant to 30 CFR 256.29(c) as a matter of information to the public, the MMS published in the Federal Register the Notice of Availability of the proposed Notice of Sale for OCS Sale 196 in the Western GOM. The title of that Notice correctly identified the proposed sale as an oil and gas lease sale in the Western GOM. However, in the summary of the action, the sale was incorrectly identified as a Central GOM sale. We are issuing this Notice to correct that error.

DATES: Comments on the size, timing, or location of proposed Sale 196 are due from the affected States within 60 days following their receipt of the proposed Notice. The final Notice of Sale will be published in the Federal Register at least 30 days prior to the date of bid opening. Bid opening is currently scheduled for August 17, 2005.

SUPPLEMENTARY INFORMATION: The proposed Notice of Sale for Sale 196 and a “Proposed Sale Notice Package” containing information essential to potential bidders may be obtained from the Public Information Unit, Gulf of Mexico Region, Minerals Management Service, 1201 Elmwood Park Boulevard, New Orleans, Louisiana 70123-2394. Telephone: (504) 736-2519.

Dated: March 29, 2005.
Thomas A. Readinger,
Associate Director for Offshore Minerals Management.

[FR Doc. 05-8110 Filed 4-21-05; 8:45 am]

BILLING CODE 4310-MR-P